FEDERAL DEPOSIT INSURANCE CORPORATION

Agency Information Collection Activities: Submission for OMB Review; Comment Request (3064-0112, -0125, -0127 & -0175)

AGENCY: Federal Deposit Insurance Corporation (FDIC).

ACTION: Notice and request for comment.

SUMMARY: The FDIC, as part of its continuing effort to reduce paperwork and respondent burden, invites the general public and other Federal agencies to take this opportunity to comment on the renewal of existing information collections, as required by the Paperwork Reduction Act of 1995. On November 28, 2016, (81 FR 85562), the FDIC requested comment for 60 days on a proposal to renew the information collections described below. No comments were received. The FDIC hereby gives notice of its plan to submit to OMB a request to approve the renewal of these collections, and again invites comment on this renewal.

DATES: Comments must be submitted on or before March 13, 2017.

ADDRESSES: Interested parties are invited to submit written comments to the FDIC by any of the following methods:

• http://www.FDIC.gov/regulations/laws/federal/notices.html.

• Email: comments@fdic.gov. Include the name and number of the collection in the subject line of the message.

• Mail: Jennifer Jones (202-898-6768), Counsel, MB-3105, Federal Deposit Insurance Corporation, 550 17th Street NW., Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Jennifer Jones, at the FDIC address above.

SUPPLEMENTARY INFORMATION: Proposal to renew the following currently approved collections of information:

1. Title: Real Estate Lending Standards.

OMB Number: 3064-0112.

Form Number: None.

Affected Public: Insured State Nonmember Banks and State Savings Associations.

Burden Estimate:

| Type of burden | Estimated number of respondents | Estimated number of responses | Estimated time per response (hours) | Frequency of response | Total annual estimated burden (hours)
Real Estate Lending Standards | Recordkeeping | 3,878 | 1 | 20 | On Occasion | 77,560

General Description of Collection: Institutions use real estate lending policies to guide their lending operations in a manner that is consistent with safe and sound banking practices and appropriate to their size and nature and scope of their operations. These policies should address certain lending considerations, including loan-to-value limits, loan administration policies, portfolio diversification standards, and documentation, approval, and reporting requirements.

2. Title: Foreign Banking and Investment by Insured State Nonmember Banks.

OMB Number: 3064-0125.

Form Number: None.

Affected Public: Insured State Nonmember Banks.

Burden Estimate:

| Type of burden | Estimated number of respondents | Estimated number of responses | Estimated time per response (hours) | Frequency of response | Total annual estimated burden (hours)
Notice of foreign branch establishment or foreign branch closure (303.182(a) and (d)) | Reporting | 1 | 1 | 2 | On Occasion | 2
Prior notice (45 days) of foreign branch establishment (303.182(b)) | Reporting | 1 | 1 | 6 | On Occasion | 6
Application to establish a foreign branch or to engage in certain activities through a foreign branch (303.182(b)) | Reporting | 1 | 1 | 40 | On Occasion | 40
Notice of foreign investment (303.183(a)) | Reporting | 1 | 1 | 2 | On Occasion | 2
Prior notice (45 days) of investment in foreign organizations (303.183(b)) | Reporting | 1 | 1 | 6 | On Occasion | 6
Application to invest in foreign organizations, or to engage in certain activities through foreign organizations (303.183(b)) | Reporting | 2 | 1 | 60 | On Occasion | 120
Notice of foreign divestiture (303.183(d)) | Reporting | 2 | 1 | 1 hour | On Occasion | 2
Total Reporting Burden Hours |  |  |  |  |  | 178
Supervision and Recordkeeping of Foreign Activities | Recordkeeping | 20 | 1 | 400 | On Occasion | 8,000
Total Recordkeeping Burden Hours |  |  |  |  |  | 8,000

General Description of Collection: The Federal Deposit Insurance (FDI) Act requires state nonmember banks to obtain FDIC consent to establish or operate a branch in a foreign country, or to acquire and hold, directly or indirectly, stock or other evidence of ownership in any foreign bank or other entity. The FDI Act also authorizes the FDIC to impose conditions for such consent and to issue regulations related thereto. This collection is a direct consequence of those statutory requirements.

3. Title: Occasional Qualitative Surveys.

OMB Number: 3064-0127.

Form Number: None.

Affected Public: Insured Depository Institutions and Their Customers.

Burden Estimate:

| Type of burden | Estimated number of respondents | Estimated number of responses | Estimated time per response (hours) | Frequency of response | Total annual estimated burden (hours)
Occasional generic qualitative surveys | Reporting | 850 | 15 | 1 | On Occasion | 12,750

General Description of Collection: The FDIC is requesting renewal of this approved collection to use occasional qualitative surveys to gather information from the public. In general, these surveys do not involve more than 850 respondents, do not require more than one hour per respondent, and are completely voluntary in nature. It is not contemplated that more than 15 such surveys will be conducted in any given year. The purpose of the surveys is, in general terms, to obtain anecdotal information about regulatory burden, problems or successes in the bank supervisory process (including both safety-and-soundness and consumer-related exams), the perceived need for regulatory or statutory change, and similar concerns. The information in these surveys is anecdotal in nature, that is, samples are not necessarily random, the results are not necessarily representative of a larger class of potential respondents, and the goal is not to produce a statistically valid and reliable database. Rather, the surveys are expected to yield anecdotal information about the particular experiences and opinions of members of the public, primarily staff at respondent banks or bank customers. The information is used to improve the way FDIC relates to its clients, to develop agendas for regulatory or statutory change, and in some cases simply to learn how particular policies or programs are working, or are perceived in particular cases.

4. Title: Interagency Guidance on Sound Incentive Compensation Practices.

OMB Number: 3064-0175.

Form Number: None.

Affected Public: Insured State Nonmember Banks and State Savings Associations.

Burden Estimate:

| Type of burden | Estimated number of respondents | Estimated number of responses | Estimated time per response (hours) | Frequency of response | Total annual estimated burden (hours)
Annual maintenance of policies and procedures | Recordkeeping | 3,878 | 1 | 40 | Annual | 155,120

General Description of Collection: The Guidance on Sound Incentive Compensation Practices helps ensure that incentive compensation policies at insured state nonmember banks and state savings associations do not encourage excessive risk-taking and are consistent with the safety and soundness of the organization. Under the Guidance, banks are required to: (i) Have policies and procedures that identify and describe the role(s) of the personnel and units authorized to be involved in incentive compensation arrangements, identify the source of significant risk-related inputs, establish appropriate controls governing these inputs to help ensure their integrity, and identify the individual(s) and unit(s) whose approval is necessary for the establishment or modification of incentive compensation arrangements; (ii) create and maintain sufficient documentation to permit an audit of the organization's processes for incentive compensation arrangements; (iii) have any material exceptions or adjustments to the incentive compensation arrangements established for senior executives approved and documented by its board of directors; and (iv) have its board of directors receive and review, on an annual or more frequent basis operation of the organization's incentive compensation system in providing risk-taking incentives that are consistent with the organization's safety and soundness.

Request for Comment

Comments are invited on: (a) Whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Dated at Washington, DC, this 3rd day of February 2017.
Federal Deposit Insurance Corporation.
Valerie J. Best,
Assistant Executive Secretary.

[FR Doc. 2017-02635 Filed 2-8-17; 8:45 am]

BILLING CODE 6714-01-P